CORPORATION FOR NATIONAL AND COMMUNITY SERVICE

Sunshine Act Meeting Notice

The National Civilian Community Corps Advisory Board gives notice of the following meeting:

Date and Time: Friday, December 11, 2009, 2:30 p.m.-4 p.m.

Place: Room 8312, 8th Floor, Corporation for National and Community Service Headquarters, 1201 New York Avenue, NW., Washington, DC 20525.

Status: Open.

Matters to be Considered: The purpose of the meeting is to update Advisory Board members on program activities, including implications for the program under the Edward M. Kennedy Serve America Act.

Accommodations: Anyone who needs an interpreter or other accommodations should notify the Corporation's contact person by 5 p.m. Wednesday, December 9, 2009.

Contact Person for more Information: Erma Hodge, NCCC, Corporation for National and Community Service, 10th Floor, Room 10404A, 1201 New York Avenue, NW., Washington, DC 20525. Phone (202) 606-6696. Fax (202) 606-3462. TDD: (202) 606-3472. E-mail: ehodge@cns.gov.

Dated: November 23, 2009.
Frank R. Trinity,
General Counsel.

[FR Doc. E9-28456 Filed 11-24-09; 11:15 am]

BILLING CODE 6050-$$-P